DEPARTMENT OF TRANSPORTATION

Saint Lawrence Seaway Development Corporation

33 CFR Part 402

RIN 2135-AA35

Tariff of Tolls

AGENCY: Saint Lawrence Seaway Development Corporation, DOT.

ACTION: Final rule.

SUMMARY: The Saint Lawrence Seaway Development Corporation (SLSDC) and the St. Lawrence Seaway Management Corporation (SLSMC) of Canada, under international agreement, jointly publish and presently administer the St. Lawrence Seaway Tariff of Tolls in their respective jurisdictions. The Tariff sets forth the level of tolls assessed on all commodities and vessels transiting the facilities operated by the SLSDC and the SLSMC. The SLSDC is revising its regulations to reflect the fees and charges currently being levied by the SLSMC in Canada. The changes affect the tolls for commercial vessels and are applicable only in Canada. For consistency, because these are under international agreement joint regulations, and to avoid confusion among users of the Seaway, the SLSDC finds that there is good cause to make the U.S. version of the amendments effective upon publication. (See Supplementary Information.)

DATES: This rule is effective on March 10, 2014.

FOR FURTHER INFORMATION CONTACT: Carrie Mann Lavigne, Chief Counsel, Saint Lawrence Seaway Development Corporation, 180 Andrews Street, Massena, New York 13662; 315/764-3200.

SUPPLEMENTARY INFORMATION: The Saint Lawrence Seaway Development Corporation (SLSDC) and the St. Lawrence Seaway Management Corporation (SLSMC) of Canada, under international agreement, jointly publish and presently administer the St. Lawrence Seaway Tariff of Tolls (Schedule of Fees and Charges in Canada) in their respective jurisdictions. The Tariff sets forth the level of tolls assessed on all commodities and vessels transiting the facilities operated by the SLSDC and the SLSMC. The SLSDC is revising 33 CFR 402.10, “Schedule of tolls”, to reflect the fees and charges levied by the SLSMC in Canada. The changes affect the tolls for commercial vessels and are applicable only in Canada. The collection of tolls by the SLSDC on commercial vessels transiting the U.S. locks is waived by law (33 U.S.C. 988a(a)). Accordingly, no notice or comment is necessary on these amendments.

Regulatory Notices

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-19478) or you may visit www.regulations.gov.

Regulatory Evaluation

This regulation involves a foreign affairs function of the United States and therefore Executive Order 12866 does not apply and evaluation under the Department of Transportation's Regulatory Policies and Procedures is not required.

Regulatory Flexibility Act Determination

I certify this regulation will not have a significant economic impact on a substantial number of small entities. The St. Lawrence Seaway Tariff of Tolls primarily relate to commercial users of the Seaway, the vast majority of whom are foreign vessel operators. Therefore, any resulting costs will be borne mostly by foreign vessels.

Environmental Impact

This regulation does not require an environmental impact statement under the National Environmental Policy Act (49 U.S.C. 4321, et seq.) because it is not a major federal action significantly affecting the quality of the human environment.

Federalism

The Corporation has analyzed this rule under the principles and criteria in Executive Order 13132, dated August 4, 1999, and has determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 402

Vessels, Waterways.

Accordingly, the Saint Lawrence Seaway Development Corporation is amending 33 CFR part 402 as follows:

PART 402—TARIFF OF TOLLS

1. The authority citation for part 402 continues to read as follows:

Authority: 33 U.S.C. 983(a), 984(a)(4) and 988, as amended; 49 CFR 1.52.

2. In § 402.3, add definitions for “liner service,” semi-liner service,” and “service incentive” in alphabetical order to read as follows:

§ 402.3 Interpretation.

* * * * *

Liner service means one or more vessels operated by a single operator on a fixed route between designated port, providing regularly scheduled service for consignments of multiple commodities.

* * * * *

Semi-liner service means a reduced or limited liner service, offering fewer regularly scheduled voyages and/or fewer designated ports of calls.

Service incentive means a percentage reduction, as part of an incentive program offered on applicable cargo tolls in respect of New Business shipments made by way of any newly established regular service out of the Great Lakes.

* * * * *

3. In § 402.4, revise paragraph (d) and add paragraph (e) to read as follows:

§ 402.4 Tolls.

* * * * *

(d) Except as set out in paragraph (e) of this section, the Volume Rebate incentive cannot be combined (i.e., applied to the same cargo movement) with either of the New Business Incentive or the Service Incentive Programs.

(e) Except for cargoes that qualify for the New Business Incentive, any cargo being shipped by a liner or semi-liner approved under the Service Incentive program shall be eligible for the Volume Rebate Incentive.

§§ 402.7 through 402.12 as [Redesignated as §§ 402.8 through 402.13]

4. Redesignate §§ 402.7 through 402.12 as §§ 402.8 through 402.13.

5. Add new § 402.7 to read as follows:

§ 402.7 Service Incentive Program

(a) To be eligible for the Service Incentive Program, cargos must qualify as New Business under the New Business Incentive Program, and be shipped by a service meeting all of the requirements (Qualifying Service):

(1) A liner or semi-liner service between the same ports;

(2) The service must call on multiple origin ports, or multiple destination ports;

(3) The service must service markets outside of the Great Lakes; and

(4) The service must not replace or displace any of the carrier's existing services. The Manager reserves the right to require proof of the ultimate origin and destination of cargoes in order to ensure there is no diversion of existing cargoes.

(b) The Service incentive applies only to New Business applications approved after the commencement date of the Qualifying Service. New Business applications approved prior to the date of commencement of the Qualifying Service will be ineligible for the Service Incentive Program.

(c) The Service Incentive applies only to cargoes exported from the Great Lakes, and is not applicable to import cargoes.

(d) The carrier will provide the Manager with written notice of its intention to apply for the Service Incentive at least thirty (30) days prior to implementation of the Qualifying Service.

(e) The carrier will advise the Manager of the proposed interval (weekly, monthly, etc.) of the Qualifying Service, and the number of calls scheduled for the Navigation Season. Additional calls to the system may be added during the season.

(f) The carrier will advise the Manager of port rotation, outlining core ports of calls when providing notification of schedule rotation. Additional ports may be added at any time provided the core schedule ports are called.

(g) The carrier will advertise the Qualifying Service on its own Web site, available port Web sites, and with Manager's Assistance on the HWY H20 Web site.

(h) The carrier must meet 75% schedule adherence with a minimum of four (4) Great Lakes calls during the navigation season.

(i) The carrier will provide the Manager with a request for the Service Incentive refund, together with copies of any documents required to support the request, within sixty (60) days of the close of the navigation season. Requests for refunds should be submitted to the Manager, Revenue and Forecast for the Manager, who will be responsible for reviewing and approving Service Incentive requests.

(j) Service Incentive of 20% of tolls paid in respect of cargo shipped by Qualifying Service will be refunded by the Manager after the close of the navigation season, once the Manager has confirmed that the carrier has met the schedule adherence requirement.

6. Newly redesignated § 402.11 is revised to read as follows:

§ 402.11 Schedule of tolls.

Summary of School Nutrition Program Director Proposed Professional Standards by Local Educational Agency Size
Item | Column 1: Description of charges | Column 2: Rate ($) Montreal to or from Lake Ontario (5 locks) | Column 3: Rate ($) Welland Canal—Lake Ontario to or from Lake Erie (8 locks)
1 | Subject to item 3, for complete transit of the Seaway, a composite toll, comprising: |  |
| (1) a charge per gross registered ton of the ship, applicable whether the ship is wholly or partially laden, or is in ballast, and the gross registered tonnage being calculated according to prescribed rules for measurement or under the International Convention on Tonnage Measurement of Ships, 1969, as amended from time to time. ¹ | 0.1020 | 0.1632
| (2) a charge per metric ton of cargo as certified on the ship's manifest or other document, as follows: |  |
| (a) bulk cargo | 1.0570 | 0.7215
| (b) general cargo | 2.5469 | 1.1546
| (c) steel slab | 2.3050 | 0.8266
| (d) containerized cargo | 1.0570 | 0.7215
| (e) government aid cargo | n/a | n/a
| (f) grain | 0.6494 | 0.7215
| (g) coal | 0.6494 | 0.7215
| (3) a charge per passenger per lock | 1.5836 | 1.5836
| (4) a lockage charge per Gross Registered Ton of the vessel, as defined in tem 1(1), applicable whether the ship is wholly or partially laden, or is in ballast, for transit of the Welland Canal in either direction by cargo ships, | n/a | 0.2718
| Up to a maximum charge per vessel | n/a | 3,801.00
2 | Subject to item 3, for partial transit of the Seaway | 20 percent per lock of the applicable charge under items 1(1), 1(2) and 1(4) plus the applicable charge under items 1(3) | 13 percent per lock of the applicable charge under items 1(1), 1(2) and 1(4) plus the applicable charge under items 1(3)
3 | Minimum charge per vessel per lock transited for full or partial transit of the Seaway | 26.39 | 26.39
4 | A charge per pleasure craft per lock transited for full or partial transit of the Seaway, including applicable federal taxes. ² | 30.00 ³ | 30.00
5 | Under the New Business Initiative Program, for cargo accepted as New Business, a percentage rebate on the applicable cargo charges for the approved period | 20% | 20%
6 | Under the Volume Rebate Incentive program, a retroactive percentage rebate on cargo tolls on the incremental volume calculated based on the pre-approved maximum volume | 10% | 10%
7 | Under the New Service Incentive Program, for New Business cargo moving under an approved new service, an additional percentage refund on applicable cargo tolls above the New Business rebate | 20% | 20%
¹ Or under the US GRT for vessels prescribed prior to 2002.
² The applicable charge at the Saint Lawrence Seaway Development Corporation's locks (Eisenhower, Snell) for pleasure craft is $30 U.S. or $30 Canadian per lock. The collection of the U.S. portion of tolls for commercial vessels is waived by law (33 U.S.C. 988a(a)).
³ $5.00 discount per lock applicable on ticket purchased for Canadian locks via PayPal.

Issued at Washington, DC, on March 3, 2014.
Saint Lawrence Seaway Development Corporation.
Carrie Lavigne,
Chief Counsel.

[FR Doc. 2014-04938 Filed 3-7-14; 8:45 am]

BILLING CODE 4910-61-P